OFFICE OF THE UNITED STATES TRADE REPRESENTATIVE

[Docket Number USTR-2023-0008]

Cancellation of Public Hearing Concerning China's Compliance With World Trade Organization (WTO) Commitments

AGENCY: Office of the United States Trade Representative (USTR).

ACTION: Notice; cancellation of public hearing.

SUMMARY: The interagency Trade Policy Staff Committee (TPSC) sought public comments to assist USTR in the preparation of its annual report to Congress on China's compliance with its obligations as a Member of the World Trade Organization (WTO). USTR is canceling the public hearing that was scheduled to take place on October 4, 2023.

DATES: The public hearing scheduled for October 4, 2023 is cancelled.

FOR FURTHER INFORMATION CONTACT: Alex Martin, Deputy Director for China Affairs at Thomas.A.Martin@ustr.eop.gov or (202) 395-9625.

SUPPLEMENTARY INFORMATION: On August 17, 2023, the TPSC sought public comments to assist USTR in the preparation of its annual report to Congress on China's compliance with its obligations as a Member of the WTO. See 88 FR 56117 (Aug 17, 2023). The notice included a September 20, 2023 deadline for the submission of written comments and requests to testify at a public hearing that was scheduled to take place on October 4, 2023. In response to the request for comments, USTR received 22 submissions. USTR also received three requests to participate in the public hearing, which subsequently were withdrawn. Therefore, USTR is canceling the October 4, 2023 public hearing.

Laura Buffo,
Chair of the Trade Policy Staff Committee, Office of the United States Trade Representative.

[FR Doc. 2023-21841 Filed 10-2-23; 8:45 am]

BILLING CODE 3390-F3-P